DEPARTMENT OF ENERGY

Federal Energy Regulatory Commission

[Project No. 13465-001]

Henry County, Iowa; Notice of Preliminary Permit Application Accepted for Filing and Soliciting Comments, Motions To Intervene, and Competing Applications

On October 3, 2012, Henry County, Iowa, filed an application for a preliminary permit, pursuant to section 4(f) of the Federal Power Act (FPA), proposing to study the feasibility of the Oakland Mills Dam Hydroelectric Project (Oakland Project or project) to be located on the Skunk River, near Tippecanoe Township, section 24, Henry County, Iowa. The sole purpose of a preliminary permit, if issued, is to grant the permit holder priority to file a license application during the permit term. A preliminary permit does not authorize the permit holder to perform any land-disturbing activities or otherwise enter upon lands or waters owned by others without the owners' express permission.

The proposed project would consist of the following: (1) A reservoir with a surface area of 28 acres and a storage capacity of 62-acre-feet at normal pool elevation of 583.56 mean sea level; (2) a 460-foot-long dam composed of a 258.58-foot-long concrete spillway section, a 7.5-foot-wide fish ladder, a 78.75-foot-long gated section containing three 24-foot-wide bays, and a 115.17-foot-long reserve turbine bay and powerhouse combination; (3) five turbine-generators with an installed capacity of 200 kilowatt (kW) each, submerged on the upstream side of the reserve turbine bay and receiving water via a concrete conduit structure equipped with trash racks; (4) a 50-foot-long transmission line connecting the project to a transmission line owned by the local utility; and (5) appurtenant facilities. The project would have a total installed capacity of 1,000 kW and generate about 7,008,000 kilowatt-hours. There are no lands of the United States enclosed within the project boundary.

Applicant Contact: Mr. John Pullis, Director, Henry County, Iowa, Henry County Conservation Department, 2593 Nature Center Drive, Mt. Pleasant, Iowa 52641; phone: (319) 986-5067.

FERC Contact: Sergiu Serban; phone: (202) 502-6211.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-13465-001) in the docket number field to access the document. For assistance, contact FERC Online Support.

Dated: November 23, 2012.
Kimberly D. Bose,
Secretary.

[FR Doc. 2012-28875 Filed 11-28-12; 8:45 am]

BILLING CODE 6717-01-P